SECURITIES AND EXCHANGE COMMISSION

17 CFR Parts 270 and 275

[Release Nos. IC-24991 and IA-1945; File No. S7-06-01]

RIN 3235-AI05

Electronic Recordkeeping by Investment Companies and Investment Advisers; Correction

AGENCY: Securities and Exchange Commission.

ACTION: Correction to final rule.

SUMMARY: This document contains a correction to the final rule, which was published on Wednesday, May 30, 2001 (66 FR 29224). This rule relates to electronic recordkeeping by investment companies and investment advisers. In FR Document No. 01-13526 beginning on page 29224 for Wednesday, May 30, 2001, the docket line contains an error. The docket line is correct as set forth above.

EFFECTIVE DATE: May 31, 2001.

FOR FURTHER INFORMATION CONTACT: Frances Sienkiewicz at (202) 942-7072.

Dated: May 31, 2001.
Margaret H. McFarland,
Deputy Secretary.

[FR Doc. 01-14218 Filed 6-5-01; 8:45 am]

BILLING CODE 8010-01-M